DEPARTMENT OF COMMERCE

National Oceanic and Atmospheric Administration

50 CFR Part 622

[I.D. 041906B]

RIN 0648-AN09

Fisheries of the Caribbean, Gulf of Mexico, and South Atlantic; Reef Fish Resources of the Gulf of Mexico; Amendment 18A

AGENCY: National Marine Fisheries Service (NMFS), National Oceanic and Atmospheric Administration (NOAA), Commerce.

ACTION: Availability of Amendment 18A to the reef fish resources of the Gulf of Mexico; request for comments.

SUMMARY: NMFS announces the availability of Amendment 18A to the Fishery Management Plan (FMP) for the Reef Fish Resources of the Gulf of Mexico (Amendment 18A) prepared by the Gulf of Mexico Fishery Management Council (Council). Amendment 18A would resolve several issues related to monitoring and enforcement of existing regulations, update the framework procedure for setting total allowable catch (TAC), and reduce bycatch mortality of incidentally caught endangered sea turtles and smalltooth sawfish. The intended effect of Amendment 18A is to support the Council's efforts to achieve optimum yield in the fishery, and provide social and economic benefits associated with maintaining stability in the fishery.

DATES: Written comments must be received no later than 5 p.m., eastern time, on June 26, 2006.

ADDRESSES: You may submit comments by any of the following methods:

• E-mail: 0648-AN09.NOA@noaa.gov. Include in the subject line the following document identifier: 0648-AN09-NOA.

• Federal e-Rulemaking Portal: http://www.regulations.gov. Follow the instructions for submitting comments.

• Mail: Peter Hood, Southeast Regional Office, NMFS, 263 13th Avenue South, St. Petersburg, FL 33701.

• Fax: 727-824-5308, Attention: Peter Hood.

Copies of Amendment 18A, which includes an Environmental Assessment, a Regulatory Impact Review (RIR), and an Initial Regulatory Flexibility Analysis (IRFA), are available from the Gulf of Mexico Fishery Management Council, 2203 North Lois, Suite 1100, Tampa, FL 33607; e-mail: gulfcouncil@gulfcouncil.org.

FOR FURTHER INFORMATION CONTACT: Peter Hood, 727-824-5305; fax 727-824-5308; e-mail: peter.hood@noaa.gov.

SUPPLEMENTARY INFORMATION: Amendment 18A, if implemented, would: (1) Prohibit vessels from retaining reef fish caught under the recreational size and bag/possession limits when commercial quantities of Gulf reef fish are onboard; (2) adjust the number of persons allowed onboard when a vessel with both commercial and charter vessel/headboat permits is fishing commercially; (3) prohibit use of Gulf reef fish, except sand perch or dwarf sand perch, as bait in any commercial or recreational fishery in the exclusive economic zone of the Gulf of Mexico, with a limited exception for crustacean trap fisheries; (4) require a NMFS-approved vessel monitoring system on board vessels with Federal commercial permits for Gulf reef fish, including charter vessels/headboats with such commercial permits; (5) require owners and operators of vessels with Federal commercial or charter vessel/headboat permits for Gulf reef fish to comply with sea turtle and smalltooth sawfish release protocols, possess on board specific gear to ensure proper release of such species, and comply with guidelines for proper care and release of incidentally caught sawfish and sea turtles; and (6) revise the TAC framework procedure to reflect current practices and terminology.

A proposed rule that would implement the measure outlined in Amendment 18A has been received from the Council. In accordance with the Magnuson-Stevens Fishery Conservation and Management Act (Magnuson-Stevens Act), NMFS is evaluating the proposed rule to determine whether it is consistent with the FMP, the Magnuson-Stevens Act, and other applicable law. If that determination is affirmative, NMFS will publish the proposed rule in the Federal Register for public review and comment.

Comments received by June 26, 2006, whether specifically directed to the FMP or the proposed rule, will be considered by NMFS in its decision to approve, disapprove, or partially approve the amendment. Comments received after that date will not be considered by NMFS in this decision. All comments received by NMFS on the amendment or the proposed rule during their respective comment periods will be addressed in the final rule.

Authority: 16 U.S.C. 1801 et seq.

Dated: April 21, 2006.
James P. Burgess,
Acting Director, Office of Sustainable Fisheries, National Marine Fisheries Service.

[FR Doc. E6-6272 Filed 4-25-06; 8:45 am]

BILLING CODE 3510-22-S